DEPARTMENT OF THE TREASURY

Office of Foreign Assets Control

Unblocking of Specially Designated Nationals and Blocked Persons

AGENCY: Office of Foreign Assets Control, Treasury.

ACTION: Notice.

SUMMARY: The Department of the Treasury's Office of Foreign Assets Control (OFAC) is publishing the names of two individuals and three entities whose property and interests in property have been unblocked pursuant to Executive Order 12978 of October 21, 1995, “Blocking Assets and Prohibiting Transactions With Significant Narcotics Traffickers.” Additionally, OFAC is publishing an update to the identifying information of two individuals currently included in the list of Specially Designated Nationals and Blocked Persons (SDN List).

DATES: The unblocking and removal from the list of SDN List of two individuals and three entities identified in this notice whose property and interests in property were blocked pursuant to Executive Order 12978 of October 21, 1995, is effective on June 4, 2015. Additionally, the update to the SDN List of the identifying information of the two individuals identified in this notice is also effective on June 4, 2015.

FOR FURTHER INFORMATION CONTACT: Assistant Director, Sanctions Compliance & Evaluation, Department of the Treasury, Office of Foreign Assets Control, Washington, DC 20220, Tel: (202) 622-2490.

SUPPLEMENTARY INFORMATION:

Electronic and Facsimile Availability

This document and additional information concerning OFAC are available from OFAC's Web site (www.treasury.gov/ofac) or via facsimile through a 24-hour fax-on demand service at (202) 622-0077.

Background

On October 21, 1995, the President, invoking the authority, inter alia, of the International Emergency Economic Powers Act (50 U.S.C. 1701-1706) (IEEPA), issued Executive Order 12978 (60 FR 54579, October 24, 1995) (the Order). In the Order, the President declared a national emergency to deal with the threat posed by significant foreign narcotics traffickers centered in Colombia and the harm that they cause in the United States and abroad.

Section 1 of the Order blocks, with certain exceptions, all property and interests in property that are in the United States, or that hereafter come within the United States or that are or hereafter come within the possession or control of United States persons, of: (1) The foreign persons listed in an Annex to the Order; (2) any foreign person determined by the Secretary of Treasury, in consultation with the Attorney General and the Secretary of State: (a) to play a significant role in international narcotics trafficking centered in Colombia; or (b) to materially assist in, or provide financial or technological support for or goods or services in support of, the narcotics trafficking activities of persons designated in or pursuant to the Order; and (3) persons determined by the Secretary of the Treasury, in consultation with the Attorney General and the Secretary of State, to be owned or controlled by, or to act for or on behalf of, persons designated pursuant to the Order.

On June 4, 2015, the Associate Director of the Office of Global Targeting removed from the SDN List the individuals and entities listed below, whose property and interests in property were blocked pursuant to the Order:

Individuals

1. SANCHEZ JIMENEZ, Jesus Maria Alejandro (a.k.a. “CHUCHO”; a.k.a. “EL PRIMO”; a.k.a. “SCUBI”; a.k.a. “SCUBY”), c/o GANADERIA ARIZONA, Medellin, Colombia; Calle 11 No. 23-80, Pereira, Colombia; Hacienda Arizona, Caucasia, Antioquia, Colombia; DOB 06 Nov 1975; POB Pereira, Colombia; Cedula No. 10026001 (Colombia); Passport AF400955 (Colombia) (individual) [SDNT].

2. TRONCOSO POSSE, Jose Manuel, c/o INVERSIONES BRASILAR S.A., Bogota, Colombia; c/o AGROPECUARIA LINDARAJA S.A., Cali, Colombia; DOB 26 Nov 1953; POB Bogota, Colombia; nationality Colombia; citizen Colombia; Cedula No. 19233258 (Colombia); Passport AE297484 (Colombia) (individual) [SDNT].

Entities

1. AGROPECUARIA LINDARAJA S.A., Calle 4N No. 1N-10, Ofc. 901, Cali, Colombia; NIT # 890327360-0 (Colombia) [SDNT].

2. GANADERIA ARIZONA, Carrera 43A No. 1 Sur-188 of. 903, Medellin, Colombia; Hacienda Arizona, Caucasia, Antioquia, Colombia; NIT # 10026001-7 (Colombia) [SDNT].

3. INVERSIONES BRASILAR S.A. (f.k.a. INVERSIONES RIVERA CAICEDO Y CIA S.C.S.; f.k.a. “INRICA”), Carrera 11 No. 73-44, Ofc. 803, Bogota, Colombia; NIT # 891305286-2 (Colombia) [SDNT].

Additionally, on June 4, 2015, the Associate Director of the Office of Global Targeting updated the SDN record for the individuals listed below, whose property and interests in property continue to be blocked pursuant to the Order:

Individuals

1. CAMACHO VALLEJO, Francisco Jose, Calle 23 BN No. 5-37 of. 202, Cali, Colombia; Carrera 37 No. 6-36, Cali, Colombia; Cedula No. 14443381 (Colombia) (individual) [SDNT] (Linked To: CRETA S.A.; Linked To: ILOVIN S.A.; Linked To: JOSAFAT S.A.; Linked To: CAMACHO VALLEJO ASESORES E.U.; Linked To: CANADUZ S.A.; Linked To: AGROPECUARIA EL NILO S.A.).

2. QUINTANA FUERTES, Andres Fernando; DOB 03 Jul 1966; POB Candelaria, Valle, Colombia; nationality Colombia; citizen Colombia; Cedula No. 16989000 (Colombia); Passport AI375038 (Colombia); alt. Passport 16989000 (Colombia) expires 13 Dec 2000 (individual) [SDNT] (Linked To: TARRITOS S.A.).

Dated: June 4, 2015.
Gregory T. Gatjanis,
Associate Director, Office of Global Targeting, Office of Foreign Assets Control.

[FR Doc. 2015-14216 Filed 6-9-15; 8:45 am]

BILLING CODE 4810-AL-P